DEPARTMENT OF ENERGY

Federal Energy Regulatory Commission

[Docket No. CP01-12-000]

El Paso Natural Gas Company; Notice of Site Visit

December 18, 2000.

On January 4, 2001, the staff of the Office of Energy Projects (OEP) will conduct a site visit of El Paso Natural Gas Company's (El Paso's) proposed Line No. 2039 Pipeline Relocation Project in Maricopa County, Arizona. The site visit will start at 9:00 am at Eurest Dining located at the intersection of South 43th Avenue and West Buckeye Road. Representatives of El Paso will accompany the staff.

All interested parties may attend, although those planning to attend must provide their own transportation.

For further, information, please contact the Commission's Office of External Affairs at (202) 208-1088.

David P. Boergers,
Secretary.

[FR Doc. 00-32698 Filed 12-21-00; 8:45 am]

BILLING CODE 6717-01-M